OFFICE OF PERSONNEL MANAGEMENT

Submission for Review: Expiring Information Collection, Interview Survey Form, INV 10

AGENCY: U.S. Office of Personnel Management.

ACTION: 30-Day Notice and request for comments.

SUMMARY: Federal Investigative Services (FIS), U.S. Office of Personnel Management (OPM) offers the general public and other federal agencies the opportunity to comment on an expiring information collection request (ICR), Office of Management and Budget (OMB) Control No. 3206-0106, for the Interview Survey Form, INV 10. As required by the Paperwork Reduction Act of 1995, (Pub. L. 104-13, 44 U.S.C. chapter 35) as amended by the Clinger-Cohen Act (Pub. L. 104-106), OPM is soliciting comments for this collection. The Office of Management and Budget (OMB) is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until May 30, 2012. This process is conducted in accordance with 5 CFR 1320.1.

ADDRESSES: Interested persons are invited to submit written comments on the proposed information collection to the Office of Information and Regulatory Affairs, Office of Management and Budget, 725 17th Street NW., Washington, DC 20503, Attention: Desk Officer for the Office of Personnel Management or sent via electronic mail to oira_submission@opm.eop.gov or faxed to (202) 395-6974; and FIS, OPM, 1900 E. Street NW., Washington, DC 20415, Attention: Donna McLeod or sent via electronic mail to FISFormsComments@opm.gov.

FOR FURTHER INFORMATION CONTACT: A copy of this ICR, with applicable supporting documentation, may be obtained by contacting FIS, OPM, 1900 E Street NW., Washington, DC 20415, Attention: Donna McLeod or sent via electronic mail to FISFormsComments@opm.gov.

SUPPLEMENTARY INFORMATION: The Interview Survey Form, INV 10, is a questionnaire that OPM mails to a random sampling of record and personal sources contacted during background investigations when investigators have performed fieldwork. The INV 10 is used as a quality control instrument designed to ensure the accuracy and integrity of the investigative product, as it inquires of the sources about the investigative procedure employed by the investigator, the investigator's professionalism, and the information discussed and reported. In addition to the preformatted response options, OPM invites the recipients to respond with any other relevant comments or suggestions. It is estimated that 63,869 individuals will respond annually. The INV 10 takes approximately 6 minutes to complete. The annual estimated burden is 6,387 hours.

The 60-day Federal Register Notice was published in the Federal Register on February 3, 2012 (Federal Register Notices/Vol. 77, Number 23, page 5581). One (1) recommendation was received from the Department of Interior, suggesting that OPM provide a survey link, via the internet, to provide the INV 10 recipient an alternative, response option that would also support the Paperwork Reduction Act efforts. OPM did not accept the recommendation at this time but will consider the recommendation for future versions.

U.S. Office of Personnel Management.
John Berry,
Director.

[FR Doc. 2012-10295 Filed 4-27-12; 8:45 am]

BILLING CODE 6325-35-P